DEPARTMENT OF LABOR

Office of the Secretary

Submission for OMB Review; Comment Request

September 15, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Benefits, Timeliness and Quality Review System.

OMB Number: 1205-0359.

Frequency: Quarterly; monthly.

Affected Public: State, local, or tribal government.

Monthly Universe Measures: SWA Staff Hours Per Year
Report | Measure | Number of respondents | Reports per year | Total responses | Hrs. per resp. | Total hrs/year
9050 | First Payment Time Lapse, Tier I | 53 | 12 | 636 | .5 | 318
9050 | First Payment Time Lapse, Partial/Part Total Claims, Tier II | 53 | 12 | 636 | .5 | 318
9050 | First Payment Time Lapse, Workshare Claims, Tier II | 53 | 12 | 636 | .5 | 318
9051 | Continued Weeks Compensated Time Lapse, Tier II | 53 | 12 | 636 | .5 | 318
9051 | Continued Weeks Compensated Time Lapse, Partial Part/Total, Tier II | 53 | 12 | 636 | .5 | 318
9051 | Continued Weeks Compensated Time Lapse, Workshare, Tier II | 53 | 12 | 636 | .5 | 318
9052 | Nonmonetary Determinations Time Lapse, Tier I, Detection Date | 53 | 12 | 636 | 1.0 | 636
9053 | Nonmonetary Determinations Time Lapse, Report Only | 53 | 12 | 636 | 1.0 | 636
9054 | Lower Authority Appeals Time Lapse, Tier I | 53 | 12 | 636 | .5 | 318
9055 | Lower Authority Appeals Case Aging, Tier II | 53 | 12 | 636 | 1.0 | 636
9054 | Higher Authority Appeals Time Lapse, Tier I | 53 | 12 | 636 | .5 | 318
9055 | Higher Authority Appeals Case Aging, Tier II | 53 | 12 | 636 | 1.0 | 636
Subtotal |  |  |  |  |  | 5088

Quarterly Sample Review Measures: SWA Staff Hours Per Year
Report | Measure | Number of respondents | Sampled cases reviewed per year | Total cases reviewed per year | Hrs. per resp. | Total hrs/year
9056 | Nonmonetary Determination Quality, Tier I | 29 Small States | 240 | 6,960 | 1 | 6,960
9056 | Nonmonetary Determination Quality, Tier I | 24 Large States | 400 | 9,600 | 1 | 9,600
9057 | Lower Authority Appeals Quality, Tier I | 47 Small States | 80 | 3,760 | 3.5 | 13,160
9057 | Lower Authority Appeals Quality, Tier I | 6 Large States | 160 | 960 | 3.5 | 3,360
Subtotal |  |  |  |  |  | 33,080

Total Burden Hours: 38,168.

Total Annualized Capital/Startup Costs: $0.

Total Annual Costs (Operating/Maintaining Systems or Purchasing Services): $0.

Description: These reports provide data necessary to monitor State performance in administration of Unemployment Insurance as mandated by the Secretary of Labor.

Ira L. Mills,
Departmental Clearance Officer.

[FR Doc. 04-21347 Filed 9-22-04; 8:45 am]

BILLING CODE 4510-30-P